NATIONAL SCIENCE FOUNDATION

National Science Board; Sunshine Act Meetings; Notice of Cancellation of a Teleconference Meeting

The National Science Board's Subcommittee on Facilities, pursuant to NSF regulations (45 CFR Part 614), the National Science Foundation Act, as amended (42 U.S.C. 1862n-5), and the Government in the Sunshine Act (5 U.S.C. 552b), hereby gives notice in regard to the cancellation of a teleconference meeting.

The National Science Board's Subcommittee on Facilities teleconference meeting scheduled for December 15, 2010, at 11 a.m. to 12:30 p.m., to discuss NSF Principles & Portfolio Review, and Future Budgetary Issues FY 2012 and beyond, located at the National Science Foundation, 4201 Wilson Blvd., Arlington, VA 22230, is hereby cancelled.

Point of contact for this meeting is: Jennie Moehlmann, National Science Board Office, 4201 Wilson Blvd., Arlington, VA 22230. Telephone: (703) 292-7000.

Daniel A. Lauretano,
Counsel to the National Science Board.

[FR Doc. 2010-31670 Filed 12-14-10; 11:15 am]

BILLING CODE 7555-01-P